DEPARTMENT OF THE INTERIOR

National Park Service

[NPS-WASO-NAGPRA-NPS0034328; PPWOCRADN0-PCU00RP14.R50000]

Notice of Inventory Completion: Library Company of Philadelphia, Philadelphia, PA

AGENCY: National Park Service, Interior.

ACTION: Notice.

SUMMARY: The Library Company of Philadelphia has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Library Company of Philadelphia. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Library Company of Philadelphia at the address in this notice by September 12, 2022.

FOR FURTHER INFORMATION CONTACT: Linda Kimiko August, Library Company of Philadelphia, 1314 Locust Street, Philadelphia, PA 19107, telephone (215) 546-3181, email laugust@librarycompany.org.

SUPPLEMENTARY INFORMATION: Notice is here given in accordance with the Native American Graves Protection and Repatriation Act (NAGPRA), 25 U.S.C. 3003, of the completion of an inventory of human remains under the control of the Library Company of Philadelphia, Philadelphia, PA. The human remains most likely were removed from the banks of Geneva Lake in Walworth County, WI.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Library Company of Philadelphia professional staff in consultation with representatives of the Forest County Potawatomi Community, Wisconsin.

History and Description of the Remains

In the 1880s and 1890s, human remains representing, at minimum, one individual most likely were removed by Dr. George Julius Engelmann from the banks of Geneva Lake in Walworth County, WI. Dr. Engelmann (1847-1903) gave these remains to Dr. Silas Weir Mitchell (1829-1914) of Philadelphia. Mitchell's son, Langdon Mitchell (1862-1935), inherited the human remains. Following his death, the human remains went to Langdon's wife, Marian Lea Mitchell (1861-1944) who, in 1937, gave them to the Library Company of Philadelphia. No known individuals were identified. No associated funerary objects are present.

These human remains have been determined to be Native American based on the history of Dr. George Julius Engelmann's excavation of specific Native American burial sites; documentation from the College of Physicians of Philadelphia concerning their collection of human remains excavated by Engelmann and donated by Dr. Silas Weir Mitchell; and the available documentation. The Forest County Potawatomi Community, Wisconsin are the present-day descendants of the earlier group at the Walworth County, WI site.

Determinations Made by the Library Company of Philadelphia

Officials of the Library Company of Philadelphia have determined that:

• Pursuant to 25 U.S.C. 3001(9), the human remains described in this notice represent the physical remains of one individual of Native American ancestry.

• Pursuant to 25 U.S.C. 3001(2), there is a relationship of shared group identity that can be reasonably traced between the Native American human remains and the Forest County Potawatomi Community, Wisconsin.

Additional Requestors and Disposition

Lineal descendants or representatives of any Indian Tribe or Native Hawaiian organization not identified in this notice that wish to request transfer of control of these human remains should submit a written request with information in support of the request to Linda Kimiko August, Library Company of Philadelphia, 1314 Locust Street, Philadelphia, PA 19107, telephone (215) 546-3181, email laugust@librarycompany.org, by September 12, 2022. After that date, if no additional requestors have come forward, transfer of control of the human remains to the Forest County Potawatomi Community, Wisconsin may proceed.

The Library Company of Philadelphia is responsible for notifying the Forest County Potawatomi Community, Wisconsin that this notice has been published.

Dated: August 3, 2022.
Melanie O'Brien,
Manager, National NAGPRA Program.

[FR Doc. 2022-17287 Filed 8-10-22; 8:45 am]

BILLING CODE 4312-52-P